DEPARTMENT OF THE INTERIOR

Bureau of Land Management

[BLM_NV_FRN_MO4500171208]

Notice of Temporary Closure of Public Lands for the 2024-2027 L'Étape Las Vegas by Tour de France, Bicycle Event, Clark County, Nevada

AGENCY: Bureau of Land Management, Interior.

ACTION: Notice of temporary closure of public lands.

SUMMARY: The Red Rock/Sloan Field Office announces the temporary closure of certain public lands under its administration. The Red Rock Canyon National Conservation Area in Las Vegas, Nevada, is used by public recreationists, and a temporary closure is needed on the 13-mile Scenic Drive and associated facilities to limit access to the area for the annual 2024 through 2027 L'Étape Las Vegas by Tour de France bicycle event for safety purposes in order to minimize the risk of potential collisions between the public and participants during the event.

DATES: This is a four-year, one-day- per-year event occurring on the first Sunday in May starting May 5, 2024, and ending on May 2, 2027. The temporary closure for the 2024 L'Étape Las Vegas event will go into effect at 6:00 a.m. (all times Pacific) on May 5, 2024, and will remain in effect until 1:00 p.m. on May 5, 2024. The temporary closure for the 2025 L'Étape Las Vegas event will go into effect at 6:00 a.m. on May 4, 2025, and will remain in effect until 1:00 p.m. on May 4, 2025. The temporary closure for the 2026 L'Étape Las Vegas event will go into effect at 6:00 a.m. on May 3, 2026, and will remain in effect until 1:00 p.m. on May 3, 2026. The temporary closure for the 2027 L'Étape Las Vegas event will go into effect at 6:00 a.m. on May 2, 2027, and will remain in effect until 1:00 p.m. on May 2, 2027.

ADDRESSES: The temporary closure order and map of the temporary closure area for each event will be posted at the BLM Las Vegas Field Office, 4701 North Torrey Pines Drive, Las Vegas, Nevada 89130; Red Rock Canyon National Conservation Area, 3205 State Highway 159, Las Vegas, Nevada 89161; Red Rock Canyon National Conservation Area Campground, 3293 Moenkopi Rd., Las Vegas, Nevada 89161; Red Spring Picnic Area in Calico Basin along Calico Basin Road; Cowboy Trails Parking Area at Mile Marker 11 on Nevada State Route 159; Red Rock Canyon Dedication Overlook Parking Area at Mile Marker 10 on Nevada State Route 159; and on the BLM website: https://www.blm.gov.

FOR FURTHER INFORMATION CONTACT: Kate Sorom, Outdoor Recreation Planner, (702) 515-5353, or ksorom@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This action is being taken to help ensure public safety during the official permitted running of the 2024-2027 L'Étape Las Vegas by Tour de France event. The public lands affected by this closure are described as follows:

Red Rock Canyon National Conservation Area—13 Mile Scenic Loop Drive

Mount Diablo Meridian, Nevada

T. 20 S., R. 58 E.,

Sec. 33, SE¼SE¼;

Sec. 34, NE¼, E½NW¼, NE¼SW¼, S½SW¼, and NE¼SE¼;

Sec. 35, SW¼NW¼, W½SW¼, SE¼SW¼, and S½SE¼.

T. 21 S., R. 58 E.,

Sec. 1, lots 6, 7, 9, 15, 16, 20, and 21;

Sec. 2, lots 1 and 2;

Sec. 3, lot 4, SW¼NW¼, W½SW¼, and SE¼SW¼;

Sec. 4, lots 1 and 2, S½NE¼, and NE¼SE¼;

Sec. 10, NE¼, E½NW¼, NE¼SW¼, and S½SW¼;

Sec. 12, E½NE¼ and E½SE¼;

Sec. 14, W½SW¼ and SE¼SW¼;

Sec. 15, S½NE¼, N½NW¼, SE¼NW¼, and NE¼SE¼;

Sec. 23, W½NE¼ and E½NW¼.

T. 21 S., R. 59 E.,

Sec. 7, lot 4.

The area described contains 2,596.22 acres, according to the official plats of the surveys of the said lands on file with the Bureau of Land Management (BLM). This description lists each of the component lots and aliquot parts that contain a portion of the 13-mile Scenic Drive. The net acreage of the roadway for the 13-mile Scenic Drive is approximately 39 acres.

The temporary closure will be posted on roads leading to the public lands to notify the public of the closure for each event. The closure area includes Red Rock Canyon National Conservation Area Scenic Drive, adjacent parking lots, the Visitor Center, and Entrance Station. Under the authority of section 303(a) of the Federal Land Policy and Management Act of 1976 (43 U.S.C. 733(a)), 43 CFR 8360.0-7 and 43 CFR 8364.1), the BLM will enforce the following rules in the area described above:

The entire area as listed in the legal description above is closed to all vehicles and personnel except law enforcement, emergency vehicles, event personnel, event participants, and BLM personnel. Access routes leading to the closed area will be signed to indicate a closure ahead. No vehicle stopping or parking in the closed area, except for designated parking areas, will be permitted. Event participants are required to remain within designated areas only, and public spectators are not allowed on the event route.

The BLM will enforce the following restrictions for the duration of the closure to ensure the safety of the public, event participants, and personnel. Unless otherwise authorized, the following activities within the closure area are prohibited:

• Public access to the Visitor Center within the closure area.

• Public use of Visitor Center restrooms.

• Public use of parking areas and restrooms within the closure area.

• Parking any vehicle in violation of posted restrictions, or in such a manner as to obstruct or impede normal or emergency traffic movement or the parking of other vehicles, create a safety hazard, or endanger any person, property, or feature. Vehicles so parked are subject to citation, removal, and impoundment at the owner's expense.

• Operating a vehicle through, around, or beyond a restrictive sign, recognizable barricade, fence, or traffic control barrier or device.

Exceptions: Temporary closure restrictions do not apply to activities conducted under contract with the BLM, agency personnel monitoring the event, or activities conducted under an approved plan of operation. Authorized users must have in their possession a written permit or contract from the BLM, signed by the authorized officer.

Enforcement: Any person who violates this temporary closure may be tried before a United States Magistrate and fined in accordance with 18 U.S.C. 3571, imprisoned no more than 12 months under 43 U.S.C. 1733(a) and 43 CFR 8360.0-7, or both. In accordance with 43 CFR 8365.1-7, State or local officials may also impose penalties for violations of Nevada law.

(Authority: 43 CFR 8360.0-7 and 8364.1.)

Catrina M. Williams,
Field Manager—Red Rock/Sloan Field Office.

[FR Doc. 2023-15376 Filed 7-19-23; 8:45 am]

BILLING CODE 4331-21-P